DEPARTMENT OF COMMERCE

Submission for OMB Review; Comment Request

The Department of Commerce will submit to the Office of Management and Budget (OMB) for clearance the following proposal for collection of information under the provisions of the Paperwork Reduction Act (44 U.S.C. chapter 35).

Agency: Bureau of Industry and Security (BIS).

Title: Voluntary Self-Disclosure of Violations of the Export Administration Regulations.

OMB Control Number: 0694-0058.

Form Number(s): N/A.

Type of Request: Regular submission.

Burden Hours: 2,220.

Number of Respondents: 222.

Average Hours per Response: 10 hours.

Needs and Uses: BIS codified its voluntary self-disclosure policy to increase public awareness of this policy and to provide the public with a good idea of BIS's likely response to a given disclosure. Voluntary self-disclosures allow BIS to conduct investigations of the disclosed incidents faster than would be the case if BIS had to detect the violations without such disclosures.

Affected Public: Business or other for-profit organizations; not-for-profit institutions.

Frequency: On occasion.

Respondent's Obligation: Voluntary.

OMB Desk Officer: Jasmeet Seehra, (202) 395-3123.

Copies of the above information collection proposal can be obtained by calling or writing Diana Hynek, Departmental Paperwork Clearance Officer, (202) 482-0266, Department of Commerce, Room 6616, 14th and Constitution Avenue, NW., Washington, DC 20230 (or via the Internet at dHynek@doc.gov.)

Written comments and recommendations for the proposed information collection should be sent within 30 days of publication of this notice to Jasmeet Seehra, OMB Desk Officer, via by e-mail Jasmeet_K._Seehra@omb.eop.gov, or fax to (202) 395-5167.

Dated: November 19, 2010.
Gwellnar Banks,
Management Analyst, Office of the Chief Information Officer.

[FR Doc. 2010-29684 Filed 11-24-10; 8:45 am]

BILLING CODE 3510-33-P